DEPARTMENT OF AGRICULTURE

Farm Service Agency

7 CFR Parts 723 and 729

RIN 0560-AG75

2002 Farm Bill Regulations—Termination of Peanut Market Quota Program and Revised Flue-Cured Tobacco Reserve Stock Level

AGENCY: Farm Service Agency, Agriculture.

ACTION: Final Rule.

SUMMARY: This rule takes two actions to reflect new law enacted in the Farm Security and Rural Investment Act of 2002 (2002 Act). First, rules for the now terminated (as to 2002 and subsequent crops) marketing quota program for peanuts are removed. Second, the “reserve stock level” for flue-cured tobacco (used to set quotas) is changed. These two actions simply implement new law and in that sense are ministerial only.

EFFECTIVE DATE: October 9, 2002.

FOR FURTHER INFORMATION CONTACT: Daniel J. Stevens, USDA, Farm Service Agency, STOP 0514, 1400 Independence Avenue, SW., Washington, DC 20250-0514, telephone 202-720-5291. Electronic mail: Daniel_Stevens@wdc.usda.gov.

SUPPLEMENTARY INFORMATION:

Executive Order 12866

This final rule has been determined to be not significant for purposes of Executive Order 12866 and has not been reviewed by OMB.

Federal Assistance Program

The title and number of the Federal Assistance Program, as found in the Catalog of Federal Domestic Assistance, to which this rule applies are: Commodity Loans and Loan Deficiency Payments—10.051.

Executive Order 12988

This final rule has been reviewed in accordance with Executive Order 12988. The provisions of this final rule do not preempt State laws, are not retroactive, and do not involve administrative appeals.

Paperwork Reduction Act

Section 1601(c) of the 2002 Act provides that the promulgation of regulations and the administration of Title I of the 2002 Act shall be done without regard to chapter 5 of title 44 of the United States Code, the Paperwork Reduction Act. Accordingly, these regulations and the forms and other information collection activities need to administer the program authorized by these regulations are not subject to review by the Office of Management and Budget under the Paperwork Reduction Act. Further, this rule does not contain new information collections or revise those collection currently approved by OMB.

Regulatory Flexibility Act

The Regulatory Flexibility Act is not applicable to this final rule because FSA is not required by 5 U.S.C. 553 or any other law to publish a notice of proposed rulemaking for the subject of this rule.

Unfunded Federal Mandates

This rule contains no Federal mandates for State, local, and tribal governments or the private sector as defined under the regulatory provisions of Title II of the Unfunded Mandate Reform Act (UMRA). Thus, this rule is not subject to the requirements of sections 202 and 205 of the UMRA.

Background

Sections 1309 and 1310 of the 2002 Act terminated, beginning with the 2002 crop, the long standing marketing quota and price support program for peanuts. New and differing peanut programs were enacted in the same legislation. This rule removes, because of the new law, the marketing quota regulations in Chapter VII of Title 7 of the Code of Federal Regulations (CFR), specifically those at 7 CFR part 729. Removal of the price support regulations contained in Chapter XIV of Title 7 of the CFR will be covered by separate notice as will rules for the new program enacted in the 2002 Act. The revised text of 7 CFR part 729 will not affect the 2001 and preceding crops. Those crops remain subject to the previous rules.

Second, in the law that preceded the 2002 Act, the reserve stock level for flue cured tobacco was set to be the greater of 100,000 pounds (farm sales weight) or 15 percent of the national quota for that tobacco for the marketing year immediately preceding the marketing year for which the determination is being made. Section 1610 of the 2002 Act changed 100,000 pounds to 60,000 pounds and 15 percent to 10 percent. This rule implements that change too. Reserve stock levels serve a function in the calculation of national tobacco quotas.

List of Subjects

7 CFR Part 723

Agricultural commodities, Marketing quotas, Price support programs, Tobacco

7 CFR Part 729

Agricultural commodities, Marketing quotas, Price support programs

Accordingly, chapter VII is amended as follows:

PART 723—TOBACCO

1. The authority citation for 7 CFR part 723 is revised to read as follows:

Authority: 7 U.S.C. 1301 et seq.; 7 U.S.C. 1421; 7 U.S.C. 1445-1 and 1445-2.

2. Amend section 723.503 by revising paragraph (a)(3) to read as follows:

§ 723.503 Establishing the quotas.

(a) * * *

(3) Reserve stock level adjustment. The total calculated by adding the sums of paragraphs (a)(1) and (a)(2) of this section may be adjusted by the Director as necessary to maintain inventories of producer loan associations for burley and flue-cured tobacco at the reserve stock level. For burley, the reserve stock level is the larger of 50 million pounds farm sales weight or 15 percent of the previous year's national market quota. For flue-cured, the reserve stock level is the larger of 60 million pounds or 10 percent of the previous year's quota. The Director shall consider supply conditions when making any adjustment and a downward adjustment for burley tobacco may not exceed either 35 million pounds farm sales weight or 50 percent of the amount by which loan inventories exceed the reserve stock level, whichever is larger. If the uncommitted pool stocks of burley tobacco for 2001 and subsequent crops equal or are less than the reserve stock level, then the downward adjustment in quota for that year may be made based on the reserve stock level for that kind of tobacco, with no downward limitation.

* * * * *

PART 729—[Revised]

3. 7 CFR Part 729 is revised to read as follows:

PART 1729—PEANUT MARKETING QUOTAS

Authority: 7 U.S.C. 7271; 15 U.S.C. 714b-c; 7 U.S.C. 7959.

§ 729.1 Applicablity to 1996 through 2001 crops of peanuts.

Sections 1309 and 1310 of the Farm Security Rural Investment Act of 2002 terminated, beginning with the 2002 crop, the marketing quota and price support program for peanuts. However, 7 CFR part 729, revised as of January 1, 2002 continues to apply to the 1996 through 2001 crops of peanuts.

Signed at Washington, DC on September 12, 2002.
James R. Little,
Administrator, Farm Service Agency.

[FR Doc. 02-25271 Filed 10-8-02; 8:45 am]

BILLING CODE 3410-05-P